SMALL BUSINESS ADMINISTRATION

[Declaration of Disaster #3292]

State of Alabama

Autauga County and the contiguous counties of Chilton, Dallas, Elmore, Lownes, and Montgomery in the State of Alabama constitute a disaster area due to damages caused by flash flooding that occurred on September 1, 2000. Applications for loans for physical damage as a result of this disaster may be filed until the close of business on November 9, 2000 and for economic injury until the close of business on June 8, 2001 at the address listed below or other locally announced locations:

U.S. Small Business Administration, Disaster Area 2 Office, One Baltimore Place, Suite 300, Atlanta, GA 30308

The interest rates are:

For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 329206 for physical damage and 9I7600 for economic injury.

(Catalog of Federal Domestic Assistance Program Nos. 59002 and 59008)
Dated: September 8, 2000.
Aida Alvarez,
Administrator.

[FR Doc. 00-23759 Filed 9-14-00; 8:45 am]

BILLING CODE 8025-01-P